DEPARTMENT OF DEFENSE

Department of the Navy

Notice of Intent To Grant an Exclusive License; Adaptive Phage Therapeutics, Inc.

AGENCY: Department of the Navy, DoD.

ACTION: Notice.

SUMMARY: The Department of the Navy hereby gives notice of its intent to grant Adaptive Phage Therapeutics, Inc. a revocable, nonassignable, exclusive license to practice worldwide the Government owned inventions described in U.S. Provisional Patent Application 62/353,517, filed 22 June 2016 and entitled “Bacteriophage compositions and methods of selection of components against specific bacteria” as well as any issued patent, divisional or continuation from that and related foreign filings in the field of antibiotics and drug-resistant bacteria control.

DATES: Anyone wishing to object to the grant of this license has fifteen (15) days from the date of this notice to file written objections along with supporting evidence, if any, not later than January 4, 2017.

ADDRESSES: Written objections are to be filed with Attn: Naval Medical Research Center, Code 1URO/OPBD, 503 Robert Grant Avenue, Silver Spring, MD 20910-7500.

FOR FURTHER INFORMATION CONTACT: Dr. T.A. Ponzio, Director, Partnerships & Business Development, Naval Medical Research Center, 503 Robert Grant Ave., Silver Spring, MD 20910-7500; todd.a.ponzio.civ@mail.mil; telephone: 240-762-0673.

Authority: 35 U.S.C. 207, 37 CFR part 404.

Dated: December 14, 2016.
A.M. Nichols,
Lieutenant Commander, Judge Advocate General's Corps, U.S. Navy, Federal Register Liaison Officer.

[FR Doc. 2016-30590 Filed 12-19-16; 8:45 am]

BILLING CODE 3810-FF-P